COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: November 10, 2024.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

6515-00-NIB-8191—Gloves, Exam, Powder-Free, Latex-Free, Nitrile, Pink, Small

6515-00-NIB-8192—Gloves, Exam, Powder-Free, Latex-Free, Nitrile, Pink, Medium

6515-00-NIB-8193—Gloves, Exam, Powder-Free, Latex-Free, Nitrile, Pink, Large

6515-00-NIB-8194—Gloves, Exam, Powder-Free, Latex-Free, Nitrile, Pink, X-Large

Authorized Source of Supply: Central Association for the Blind and Visually Impaired, Utica, NY

Contracting Activity: OFFICE OF ACQUISITION, ARLINGTON, VA

NSN(s)—Product Name(s):

1730-00-945-8450—Chock Wheel

Authorized Source of Supply: NEWVIEW Oklahoma, Inc, Oklahoma City, OK

Contracting Activity: DLA AVIATION, RICHMOND, VA

Contracting Activity: DLA TROOP SUPPORT, PHILADELPHIA, PA

NSN(s)—Product Name(s):

7510-01-484-4564—Refill, Rubberized Ballpoint Stick Pen w Chain, Blue Ink, Medium Point

Authorized Source of Supply: Alphapointe, Kansas City, MO

Contracting Activity: GSA/FAS ADMIN SVCS ACQUISITION BR(2, NEW YORK, NY

Michael R. Jurkowski,
Director, Business Operations.

[FR Doc. 2024-23600 Filed 10-10-24; 8:45 am]

BILLING CODE 6353-01-P